CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed Senior Corps Longitudinal Study instrument. The study involves a longitudinal evaluation of the impact of participation in National Senior Service Corps (Senior Corps) services on both Senior Corps members and the beneficiaries of Senior Corps services. Study One examines the impact of Senior Companion Program services on levels of stress, self-rated health, and symptoms of depression in caregivers of clients receiving respite services and family caregivers of clients receiving independent living services. Study Two examines the impact of service in Senior Corps' Senior Companion Program (SCP) and Foster Grandparent Program (FGP) on members level of satisfaction, self-efficacy, self-rated health, symptoms of depression and loneliness.

The survey will be administered over three data collection periods, Baseline, Year 1 and Year 2.

Copies of the information collection request can be obtained by contacting the office listed in the ADDRESSES section of this notice.

DATES: Written comments must be submitted to the individual and office listed in the ADDRESSES section by December 1, 2014.

ADDRESSES: You may submit comments, identified by the title of the information collection activity, by any of the following methods:

(1) By mail sent to: Corporation for National and Community Service, Senior Corps Program; Attention Anthony Nerino, Research Associate, Office #10913A; 1201 New York Avenue NW., Washington, DC 20525.

(2) By hand delivery or by courier to the CNCS mailroom at Room 6010 at the mail address given in paragraph (1) above, between 9:00 a.m. and 4:00 p.m. Eastern Time, Monday through Friday, except Federal holidays.

(3) Electronically through the Corporation's email system to anerino@cns.gov.

Individuals who use a telecommunications device for the deaf (TTY-TDD) may call 1-800-833-3722 between 8:00 a.m. and 8:00 p.m. Eastern Time, Monday through Friday.

FOR FURTHER INFORMATION CONTACT: Anthony Nerino, (202-606-3913), or by email at anerino@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS has submitted a Request for Proposal soliciting technical assistance to implement a longitudinal study of Senior Corps' FGP and SCP in order to identify the long term impact on caregivers of SCP respite service and SCP independent living services. Additionally, CNCS seeks to assess the long term impact of participation in the FGP and SCP on members' satisfaction, health related outcomes and psycho-social outcomes.

This project involves a survey of: caregivers to individuals who are recipients of independent living services; caregivers to individuals receiving respite care services; and FGP and SCP members. Potential survey respondents will be drawn from a list of registered beneficiaries provided by a sample of SCP grantees. SCP and FGP members will be drawn from a list of registered members provided by a sample of SCP and FGP grantees. Potential interview respondents will include beneficiaries, caregivers and FGP/SCP members. Survey data will be collected using a multi-modal survey methods including phone surveys, paper surveys and on-line surveys.

Quantitative data analysis will include descriptive statistics and inferential analysis of survey responses by respondent characteristics. Analyses will focus on identifying demographic factors of recipients and members, and on self-reported health status and psycho-social factors including self-efficacy, loneliness and depression.

Current Action

CNCS seeks public comment on a new data collection instrument and a set of interview questions developed for this project. The instrument and interview questionnaire is being designed by the contractor for this project.

Type of Review: New.

Agency: Corporation for National and Community Service.

Title: Senior Corps Longitudinal Study.

OMB Number: None.

Agency Number: None.

Affected Public: Senior Corps SCP service recipients and SCP/FGP members.

Total Respondents: Surveys 2,200.

Frequency: Three times.

Average Time per Response: 30 minutes.

Respondent category | Number | Time (minutes) | Total hours
SCP Caregiver Longitudinal Study | 1,200 | 30 | 600
FGP and SCP Longitudinal Volunteer Study Interview Participants | 1,000 | 30 | 500

Estimated Total Burden Hours: 1,100.

Total Burden Cost (capital/startup): None.

Total Burden Cost (operating/maintenance): None.

Comments submitted in response to this notice will be summarized and/or included in the request for Office of Management and Budget approval of the information collection request; they will also become a matter of public record.

Dated: September 25, 2014.
Stephen Plank,
Director, Research and Evaluation.

[FR Doc. 2014-23392 Filed 9-30-14; 8:45 am]

BILLING CODE 6050-28-P